DEPARTMENT OF ENERGY

Federal Energy Regulatory Commission

Combined Notice of Filings #1

Take notice that the Commission received the following electric rate filings:

Docket Numbers: ER18-126-001; ER16-2019-005.

Applicants: Five Points Solar Park LLC, AL Solar A, LLC.

Description: Supplement to March 9, 2021 Notice of Non-Material Change in Status of AL Solar A, LLC, et al.

Filed Date: 8/3/21.

Accession Number: 20210803-5157.

Comment Date: 5 p.m. ET 8/24/21.

Docket Numbers: ER20-2528-002.

Applicants: Airport Solar LLC.

Description: Refund Report: Refund Report Under Docket ER20-2528 to be effective N/A.

Filed Date: 8/18/21.

Accession Number: 20210818-5049.

Comment Date: 5 p.m. ET 9/8/21.

Docket Numbers: ER21-123-000.

Applicants: Idaho Power Company.

Description: Idaho Power Company submits Demonstration for Formula Rate Meeting Requirements to Incorporate Changes in tax Rates.

Filed Date: 7/14/21.

Accession Number: 20210714-5169.

Comment Date: 5 p.m. ET 9/1/21.

Docket Numbers: ER21-2330-000; ER21-2331-000; ER21-2333-000; ER21-2336-000.

Applicants: Tecolote Wind LLC, Red Cloud Wind LLC, Duran Mesa LLC, Clines Corners Wind Farm LLC.

Description: Supplement to July 1, 2021 Clines Corners Wind Farm LLC, et al. tariff filing.

Filed Date: 8/12/21.

Accession Number: 20210812-5188.

Comment Date: 5 p.m. ET 9/2/21.

Docket Numbers: ER21-2537-001.

Applicants: California Independent System Operator Corporation.

Description: Tariff Amendment: 2021-08-18 Errata Filing—First Amendment to ABAOA—BANC to be effective 10/18/2021.

Filed Date: 8/18/21.

Accession Number: 20210818-5091.

Comment Date: 5 p.m. ET 9/8/21.

Docket Numbers: ER21-2704-000.

Applicants: Wisconsin Power and Light Company.

Description: § 205(d) Rate Filing: WPL-Grant County Affected System MPFCA to be effective 10/18/2021.

Filed Date: 8/18/21.

Accession Number: 20210818-5032.

Comment Date: 5 p.m. ET 9/8/21.

Docket Numbers: ER21-2705-000.

Applicants: Wisconsin Power and Light Company.

Description: § 205(d) Rate Filing: WPL-WE Affected System MPFCA to be effective 10/18/2021.

Filed Date: 8/18/21.

Accession Number: 20210818-5035.

Comment Date: 5 p.m. ET 9/8/21.

Docket Numbers: ER21-2706-000.

Applicants: Wisconsin Power and Light Company.

Description: § 205(d) Rate Filing: WPL-Red Barn Affected System MPFCA to be effective 10/18/2021.

Filed Date: 8/18/21.

Accession Number: 20210818-5037.

Comment Date: 5 p.m. ET 9/8/21.

Docket Numbers: ER21-2707-000.

Applicants: Wisconsin Power and Light Company.

Description: § 205(d) Rate Filing: Grant County et al Affected System MPFCA to be effective 10/18/2021.

Filed Date: 8/18/21.

Accession Number: 20210818-5043.

Comment Date: 5 p.m. ET 9/8/21.

Docket Numbers: ER21-2708-000.

Applicants: Wisconsin Power and Light Company.

Description: § 205(d) Rate Filing: Grant County Affected System FCA to be effective 10/18/2021.

Filed Date: 8/18/21.

Accession Number: 20210818-5045.

Comment Date: 5 p.m. ET 9/8/21.

Docket Numbers: ER21-2709-000.

Applicants: Midcontinent Independent System Operator, Inc.

Description: § 205(d) Rate Filing: 2021-08-18_SA 3413 Ameren IL-Cass County Solar Project 1st Rev GIA (J859) to be effective 8/4/2021.

Filed Date: 8/18/21.

Accession Number: 20210818-5053.

Comment Date: 5 p.m. ET 9/8/21.

Docket Numbers: ER21-2710-000.

Applicants: Idaho Power Company.

Description: Idaho Power Company submits Average System Cost Filing for Sales of Electric Power to the Bonneville Power Administration, FY 2022-2023.

Filed Date: 8/17/21.

Accession Number: 20210817-5179.

Comment Date: 5 p.m. ET 9/7/21.

Docket Numbers: ER21-2711-000.

Applicants: Octopus Energy LLC.

Description: Baseline eTariff Filing: Application For Market Based Rate Authority to be effective 8/19/2021.

Filed Date: 8/18/21.

Accession Number: 20210818-5119.

Comment Date: 5 p.m. ET 9/8/21.

Take notice that the Commission received the following electric reliability filings:

Docket Numbers: RR21-8-000.

Applicants: North American Electric Reliability Corporation.

Description: Petition of the North American Electric Reliability Corporation for Approval of Revisions to the NERC Rules of Procedure Regarding Reliability Standards.

Filed Date: 8/18/21.

Accession Number: 20210818-5089.

Comment Date: 5 p.m. ET 9/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2021.
Debbie-Anne A. Reese,
Deputy Secretary.

[FR Doc. 2021-18219 Filed 8-24-21; 8:45 am]

BILLING CODE 6717-01-P